DEPARTMENT OF COMMERCE

International Trade Administration

Agency Information Collection Activities; Submission to the Office of Management and Budget (OMB) for Review and Approval; Comment Request; Section 232 Tariff Offsets and Inclusion Processes for Automobiles and Vehicle Parts

AGENCY: International Trade Administration, Commerce.

ACTION: Notice of information collection, request for comment.

SUMMARY: The Department of Commerce, in accordance with the Paperwork Reduction Act of 1995 (PRA), invites the general public and other Federal agencies to comment on proposed, and continuing information collections, which helps us assess the impact of our information collection requirements and minimize the public's reporting burden. The purpose of this notice is to allow for 60 days of public comment preceding submission of the collection to OMB.

DATES: To ensure consideration, comments regarding this proposed information collection must be received on or before January 26, 2026.

ADDRESSES: Interested persons are invited to submit written comments to Elizabeth Clark, Automotive Team Lead, International Trade Administration, Office of Transportation and Machinery, by phone 202-482-5732, or by email Elizabeth.Clark@trade.gov or PRA@trade.gov. Please reference OMB Control Number 0625-0283 in the subject line of your comments. Do not submit Confidential Business Information or otherwise sensitive or protected information.

FOR FURTHER INFORMATION CONTACT: Requests for additional information or specific questions related to collection activities should be directed to Elizabeth Clark, Automotive Team Lead, International Trade Administration, Office of Transportation and Machinery, by phone 202-482-5732, or by email Elizabeth.Clark@trade.gov.

SUPPLEMENTARY INFORMATION:

I. Abstract

On March 26, 2025, the President issued Proclamation 10908 (90 FR 14705), “Adjusting Imports of Automobiles and Automobile Parts Into the United States,” (Proclamation 10908) finding that imports of automobiles and certain automobile parts continue to threaten to impair the national security of the United States and imposing specified tariffs to adjust imports of automobiles and certain automobile parts so that such imports will not threaten to impair national security pursuant to Section 232 of the Trade Expansion Act of 1962 (“Section 232”). Section 232 authorizes the President to adjust the imports of an article and its derivatives that are being imported into the United States in such quantities or under such circumstances as to threaten to impair the national security of the United States so that such imports will not threaten to impair national security. Proclamation 10908 imposed a 25 percent tariff on certain imports of automobiles, effective April 3, 2025, and certain imports of automobile parts, effective May 3, 2025.

On April 29, 2025, the President issued Proclamation 10925 (90 FR 18899), which allowed for automobile manufactures assembling automobiles in the United States to apply for an import adjustment offset amount, which would offset certain tariff liability under Proclamation 10908 on imports of automobile parts. Proclamation 10925 required that within 30 days of the date of the order the Secretary of the Department of Commerce (Commerce) shall establish a process by which automobile manufacturers could submit documentation supporting eligibility and a claim for an import adjustment offset amount. A notice announced procedures for administration of the import adjustment offset amount program, including application, documentation, and certification requirements, eligibility conditions, and coordination with U.S. Customs and Border Protection (CBP).

Presidential Proclamation 10984 of October 17, 2025 determines that imports of medium- and heavy-duty vehicles, their parts, and buses threaten to impair U.S. national security and therefore imposes corrective trade measures under Section 232 of the Trade Expansion Act. The Proclamation establishes a 25 percent tariff on covered medium- and heavy-duty vehicles and parts, and a 10 percent tariff on buses and certain related vehicles, effective November 1, 2025. It also creates an import adjustment offset program allowing manufacturers that assemble qualifying vehicles in the United States to offset certain tariff liabilities based on a percentage of the value of domestically produced vehicles assembled between 2025 and 2030. The Secretary of Commerce is directed to implement application, documentation, and enforcement procedures in coordination with CBP, with the overarching objective of strengthening domestic manufacturing capacity, reducing reliance on foreign supply chains, and safeguarding national security interests.

II. Method of Collection

Manufacturers seeking an import adjustment offset amount must submit documentation for each period for which an import adjustment offset amount is sought as defined by Commerce (i.e., one set of documentation for the period of April 3, 2025 through April 30, 2026; and a separate set of documentation for the period of May 1, 2026 through April 30, 2027). The information collected will be used by Commerce staff to facilitate the Secretary's review of the applications and to make a determination of eligibility for the tariff offset on their imported parts. Manufacturers may submit their applications electronically to: autooffset@trade.gov.

Domestic producers of automobiles or automobile parts articles, or any industry association representing one or more such producers, may submit automobile parts articles inclusion requests during two-week submission windows that ITA will open four times annually at the beginning of each January, April, July, and October.

III. Data

OMB Control Number: 0625-0283.

Form Number(s): None.

Type of Review: Regular submission, extension of a current information collection.

Affected Public: Business or other for-profit organizations.

Estimated Number of Respondents: 80.

Estimated Time per Response: 48 hours.

Estimated Total Annual Burden Hours: 4,000 hours.

Estimated Total Annual Cost to Public: $120,760.

Respondent's Obligation: Voluntary.

IV. Request for Comments

We are soliciting public comments to permit the Department/Bureau to: (a) Evaluate whether the proposed information collection is necessary for the proper functions of the Department, including whether the information will have practical utility; (b) Evaluate the accuracy of our estimate of the time and cost burden for this proposed collection, including the validity of the methodology and assumptions used; (c) Evaluate ways to enhance the quality, utility, and clarity of the information to be collected; and (d) Minimize the reporting burden on those who are to respond, including the use of automated collection techniques or other forms of information technology.

Comments that you submit in response to this notice are a matter of public record. We will include or summarize each comment in our request to OMB to approve this ICR. Before including your address, phone number, email address, or other personal identifying information in your comment, you should be aware that your entire comment—including your personal identifying information—may be made publicly available at any time. While you may ask us in your comment to withhold your personal identifying information from public review, we cannot guarantee that we will be able to do so.

Sheleen Dumas,
Departmental PRA Compliance Officer, Office of the Under Secretary for Economic Affairs, Commerce Department.

[FR Doc. 2025-21114 Filed 11-25-25; 8:45 am]

BILLING CODE 3510-DR-P